DEPARTMENT OF LABOR

Employment and Training Administration

[TA-W-63,616]

Holophane, Newark, OH; Notice of Termination of Investigation

Pursuant to Section 221 of the Trade Act of 1974, as amended, an investigation was initiated on June 30, 2008 in response to a petition filed by a company official on behalf of workers of Holophane, Newark, Ohio.

The petitioning group of workers are covered under the earlier petition (TA-W-63,615), filed on June 27, 2008 that is the subject of an ongoing investigation for which a determination has not yet been issued. Further investigation in this case would duplicate efforts and serve no purpose; therefore the investigation under this petition has been terminated.

Signed at Washington, DC this 8th day of July, 2008.
Linda G. Poole,
Certifying Officer, Division of Trade Adjustment Assistance.

[FR Doc. E8-16071 Filed 7-14-08; 8:45 am]

BILLING CODE 4510-FN-P